DEPARTMENT OF EDUCATION

Technical Assistance on Data Collection—General Supervision Enhancement Grants

AGENCY: Office of Special Education and Rehabilitative Services, Department of Education.

ACTION: Notice of proposed priorities.

SUMMARY: The Assistant Secretary for Special Education and Rehabilitative Services proposes three funding priorities under the Technical Assistance on State Data Collection program. The Assistant Secretary may use these priorities for competitions in fiscal year (FY) 2007 and later years. We take this action to focus attention on an identified national need to provide technical assistance to improve the capacity of States to meet data collection requirements relating to their State academic assessment systems.

DATES: We must receive your comments on or before June 13, 2007.

ADDRESSES: Address all comments about these proposed priorities to Larry Wexler, U.S. Department of Education, 400 Maryland Avenue, SW., room 4053, Potomac Center Plaza, Washington, DC 20204-2700. If you prefer to send your comments through the Internet, use the following address: larry.wexler@ed.gov.

You must include the term “Data Collection Priorities” in the subject line of your electronic message.

FOR FURTHER INFORMATION CONTACT: Larry Wexler. Telephone: (202) 245-7571.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding these proposed priorities. To ensure that your comments have maximum effect in developing the notice of final priorities, we urge you to identify clearly the specific proposed priority that each comment addresses.

We invite you to assist us in complying with the specific requirements of Executive Order 12866 and its overall requirement of reducing regulatory burden that might result from these proposed priorities. Please let us know of any further opportunities we should take to reduce potential costs or increase potential benefits while preserving the effective and efficient administration of the program.

During and after the comment period, you may inspect all public comments about these proposed priorities in room 4019, 550 12th Street, SW., Potomac Center Plaza, Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for these proposed priorities. If you want to schedule an appointment for this type of aid, please contact the person listed under FOR FURTHER INFORMATION CONTACT.

We will announce the final priorities in a notice in the Federal Register. We will determine the final priorities after considering responses to this notice and other information available to the Department. This notice does not preclude us from proposing or funding additional priorities, subject to meeting applicable rulemaking requirements.

Note: This notice does not solicit applications. In any year in which we choose to use any of these proposed priorities, we invite applications through a notice in the Federal Register. When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Note: The Secretary is proposing three separate funding priorities addressing data collected under Part B and Part C of the Individuals with Disabilities Education Act, as amended (IDEA). Although these are being proposed in one notice, we anticipate these priorities would be funded through separate competitions. Eligible entities must submit separate applications under each of the priorities for which they wish to apply.

Priorities

Background of Proposed Priority A—Modified Academic Achievement Standards

On December 15, 2005, the Secretary published a notice of proposed rulemaking in the Federal Register (70 FR 74624) requesting public comment on proposed regulations under the Elementary and Secondary Education Act of 1965, as amended by the No Child Left Behind Act of 2001. The proposed regulations would provide States with flexibility regarding State, local educational agency (LEA), and school accountability for the achievement of a group of students with disabilities who can make significant progress, but may not reach grade-level achievement standards within the same time frame as other students.

The proposed regulations would permit States to develop modified academic achievement standards (and assessments that measure achievement based on those standards) that are aligned with grade-level content standards. States and LEAs would be permitted to include the proficient and advanced scores from assessments based on modified academic achievement standards in adequate yearly progress (AYP) determinations, subject to a cap of 2.0 percent at the district and State levels based on the total number of students in the grades assessed.

The Secretary anticipates issuing final regulations in the near future. We further anticipate that, once these regulations become effective, many States will need support in developing, enhancing, or redesigning their assessment systems to include assessments that are aligned with modified academic achievement standards.

Proposed Priority A—Modified Academic Achievement Standards

The Assistant Secretary for Special Education and Rehabilitative Services proposes a priority for grants to support States with one or more of the following activities: (1) Development of modified academic achievement standards which must be based on the State's academic content standards for the grade in which a student is enrolled; (2) development of State assessments based on modified academic achievement standards; and (3) development of clear and appropriate guidelines for individualized education program (IEP) Teams to use in determining which students should be assessed based on modified academic achievement standards, and the development and implementation of training on those guidelines.

Assessments based on modified academic achievement standards must be designed to generate valid scores that can be used for AYP accountability purposes under the Elementary and Secondary Education Act of 1965 (ESEA), as amended by the No Child Left Behind Act of 2001 (NCLB). These data also will be part of the data required by the Part B State Performance Plans and Annual Performance Reports on the performance and participation of children with disabilities on State assessments under section 616 of the Individuals With Disabilities Education Act.

Applicants must include information in their application on how they will work with experts in large-scale assessment and special education to ensure that they are designing modified academic achievement standards, and assessments based on those standards, that: (1) Address the needs of students with disabilities; (2) validly, reliably, and accurately measure student performance; and (3) result in high quality data for use in evaluating the performance of schools, districts, and States. The experts selected should represent the range of skills needed to develop assessments based on modified academic achievement standards for students with disabilities that will meet the peer review guidelines for assessments published by the Department in the spring of 2004 that are available at http://www.ed.gov/policy/elsec/guid/saaprguidance.pdf. Skill sets for experts must include experience with one or more of the following: (1) Large scale assessment; (2) standards-setting techniques; (3) assessment and measurement of children with disabilities; (4) accommodations and supports to assess grade-level content; (5) working with States to develop assessments; (6) development of criterion referenced tests and instruments; (7) psychometric evaluation; (8) conducting studies of the technical adequacy of assessment instruments; and (9) research and publishing in the area of assessment and psychometrics.

Projects funded under this priority also must—

(a) Budget to attend a three-day Project Directors' meeting;

(b) If the project maintains a Web site, include relevant information and documents in a format that meets a government or industry-recognized standard for accessibility; and

(c) Provide a written assurance that the State's Assessment Office (e.g., the office that addresses accountability under the ESEA, as amended by the NCLB) was given the opportunity to contribute to the formulation of the application.

Background of Proposed Priority B—Alternate Academic Achievement Standards

The Department's Title I regulations in 34 CFR part 200 regarding children with the most significant cognitive disabilities permit a State to develop alternate academic achievement standards for students with the most significant cognitive disabilities and to include those students' proficient and advanced scores on alternate assessments based on alternate achievement standards in measuring adequate yearly progress (AYP) at the State and district levels, subject to a cap of 1.0 percent of the total number of students in the grades assessed. Alternate assessments based on alternate achievement standards, as permitted by the Title I regulations, also are recognized as an appropriate assessment method in section 612(a)(16) of the Individuals with Disabilities Education Act (IDEA).

Alternate assessments that are used by States and local educational agencies (LEAs) under Title I of the Elementary and Secondary Education Act of 1965 (ESEA), as amended by the No Child Left Behind Act of 2001 (NCLB), must be designed to generate valid data that can be used for purposes of determining AYP. Alternate assessments also must meet the requirements in 34 CFR 200.2 (State Responsibilities for Assessment) and 34 CFR 200.3 (Designing State Academic Assessment Systems), including the requirements relating to validity, reliability, and high technical quality; and fit coherently in the State's overall assessment system under 34 CFR 200.2. The alternate assessment must, among other things: (1) Be valid and reliable for the purposes for which the assessment system is used; (2) be consistent with relevant, nationally-recognized professional and technical standards; and (3) be supported by evidence from test publishers or other relevant sources that the assessment system is of adequate technical quality for each purpose required under the ESEA, as amended by NCLB. States must include alternate assessment data in their State Performance Plan and Annual Performance Reports relative to performance and participation of children with disabilities on State assessments under the IDEA.

The Department proposes the following priority because many States need assistance in: (1) Developing alternate academic achievement standards aligned with the State's academic content standards; (2) developing high-quality alternate assessments that measure the achievement of students with the most significant cognitive disabilities based on those standards; and (3) reporting on the participation and performance of students with disabilities on alternate assessments based on alternate academic achievement standards.

Proposed Priority B—Alternate Academic Achievement Standards

The Assistant Secretary for Special Education and Rehabilitative Services proposes a priority for grants to support States with one or more of the following activities: (1) Develop alternate academic achievement standards aligned with the State's academic content standards; (2) develop high-quality alternate assessments that measure the achievement of students with the most significant cognitive disabilities based on those standards; and (3) report on the participation and performance of students with disabilities on alternate assessments based on alternate academic achievement standards.

Applicants must include information in their applications on how they will work with experts in large-scale assessment and special education to ensure that they are designing alternate academic achievement standards, and assessments based on those standards, that: (1) Address the needs of students with the most significant cognitive disabilities; (2) validly, reliably, and accurately measure student performance; and (3) result in high quality data for use in evaluating the performance of schools, districts, and States. The experts selected should represent the range of skills needed to develop assessments based on alternate academic achievement standards for students with the most significant cognitive disabilities that will meet the peer review guidelines for assessments published by the Department in the spring of 2004 that are available at http://www.ed.gov/policy/elsec/guid/saaprguidance.pdf. Skill sets for experts must include experience with one or more of the following: (1) Large scale assessment; (2) standards-setting techniques; (3) assessment and measurement of children with disabilities; (4) accommodations and supports to assess grade-level content; (5) working with States to develop assessments; (6) development of criterion-referenced tests and instruments; (7) psychometric evaluation; (8) conducting studies of the technical adequacy of assessment instruments; and (9) research and publishing in the area of assessment and psychometrics.

Projects funded under this priority also must—

(a) Budget to attend a three-day Project Directors' meeting;

(b) If the project maintains a Web site, include relevant information and documents in a format that meets a government or industry-recognized standard for accessibility; and

(c) Provide a written assurance that the State's Assessment Office (e.g., the office that addresses accountability under the ESEA, as amended by the NCLB) was given the opportunity to contribute to the formulation of the application.

Background of Proposed Priority C—Outcome Measures

The cornerstone of any accountability system is the development of outcome indicators against which progress can be measured. State performance reports, self-assessments, and other extant data show that most States and Lead Agencies as defined under Part C of the IDEA (Section 635(a)(10)), as well as their local educational agencies and Early Intervention Service programs, do not have well developed systems for measuring the progress of infants, toddlers, and young children with disabilities and their families served under Part B and Part C of IDEA or methods to collect and analyze Part B and Part C outcome indicator data. Therefore, most States lack the capacity to collect sufficient data to determine the impact of early intervention and special education services for these children.

Proposed Priority C—Outcome Measures

The Assistant Secretary for Special Education and Rehabilitative Services proposes a priority for projects that address the needs of States for technical assistance to improve their capacity to meet Federal data collection requirements in one or both of two focus areas.

Focus Area One. This Focus Area supports the development or enhancement of Part B State systems for collecting, analyzing, and reporting preschool outcome indicator data. Projects funded under this Focus Area must focus on improving the capacity of the State to provide information that could be used to determine the following:

(a) The outcomes associated with preschool children with disabilities participating in State Part B programs.

(b) If the State has standards for preschool disability outcomes, whether preschool children with disabilities are meeting those standards.

(c) Trend data on outcomes associated with preschool children with disabilities and the extent to which preschool children with disabilities are meeting State standards.

Focus Area Two. This Focus Area supports the development or enhancement of Part C systems for collecting, analyzing, and reporting outcome indicator data. Projects funded under this Focus Area must focus on improving the capacity of the State to provide information that could be used to determine the following:

(a) The outcomes associated with infants and toddlers with disabilities and their families participating in State Part C programs.

(b) If the State has standards for early intervention outcomes, whether infants and toddlers with disabilities are meeting those standards.

(c) Trend data on outcomes associated with infants and toddlers with disabilities and their families and the extent to which infants and toddlers with disabilities are meeting State standards.

Projects funded under this priority also must—

(a) Budget to attend a three-day Project Directors' meeting;

(b) If the project maintains a Web site, include relevant information and documents in a format that meets a government or industry-recognized standard for accessibility; and

(c) Provide a written assurance that the State's Assessment Office (e.g., the office that addresses accountability under the Elementary and Secondary Education Act of 1965, as amended by the No Child Left Behind Act of 2001) was given the opportunity to contribute to the formulation of the application.

Executive Order 12866

This notice of proposed priorities has been reviewed in accordance with Executive Order 12866. Under the terms of the order, we have assessed the potential costs and benefits of this regulatory action.

The potential costs associated with this regulatory action are those resulting from statutory and regulatory requirements and those we have determined as necessary for administering this program effectively and efficiently.

In assessing the potential costs and benefits—both quantitative and qualitative—of this regulatory action, we have determined that the benefits of the proposed regulatory action justify the costs.

We have also determined that this regulatory action does not unduly interfere with State, local, and tribal governments in the exercise of their governmental functions.

Intergovernmental Review

This program is subject to Executive Order 12372 and the regulations in 34 CFR part 79. One of the objectives of the Executive Order is to foster an intergovernmental partnership and a strengthened federalism. The Executive Order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.htm

(Catalog of Federal Domestic Assistance Number 84.373X Technical Assistance on Data Collection—IDEA General Supervision Enhancement Grant)

Program Authority: 20 U.S.C. 1411(c) and 1416(i)(2).

Dated: March 26, 2007.
John H. Hager,
Assistant Secretary for Special Education and Rehabilitative Services.

[FR Doc. E7-5930 Filed 3-29-07; 8:45 am]

BILLING CODE 4000-01-P